DEPARTMENT OF COMMERCE

Foreign-Trade Zones Board

[Docket 24-2009]

Foreign-Trade Zone 7 - San Juan, PR, Request for Manufacturing Authority, CooperVision Caribbean Corporation (Contact Lenses), Juana Diaz, PR

An application has been submitted to the Foreign-Trade Zones Board (the Board) by the Puerto Rico Industrial Development Company, grantee of FTZ 7, requesting authority on behalf of CooperVision Caribbean Corporation (CooperVision), to manufacture contact lenses under FTZ procedures within FTZ 7. The application was submitted pursuant to the provisions of the Foreign-Trade Zones Act, as amended (19 U.S.C. 81a-81u), and the regulations of the Board (15 CFR Part 400). It was formally filed on June 26, 2009.

The CooperVision facilities (441,000 sq.ft./1,300 employees) are located within Site 4 at 500 Road 584, Amuelas Industrial Park (manufacturing plant and warehouse) and at Road 149, Lomas Industrial Park (warehouse) in Juana Diaz, Puerto Rico. The facilities are used to manufacture and distribute disposable contact lenses (HTSUS 9001.30; duty rate: 2.0%) for export and the domestic market. At full capacity, the manufacturing plant can produce up to 800 million contact lenses annually. Activity under FTZ procedures would include manufacturing, cleaning, hydrating, polishing, power reading, and packaging. Foreign-origin materials and components that would be purchased from abroad (representing up to 65% of total material inputs, by value) to be used in manufacturing include: polypropelene polymers, quanternary ammonium (PC Hema, YT-Lipidure), esters of acrylic acid, acyclic amides, silicone (primary), and aluminum foil (duty rate range: free 6.5%).

FTZ procedures would exempt CooperVision from customs duty payments on the foreign material inputs used in export production (up to 90% of shipments). On its domestic sales, CooperVision would be able to elect the duty rate that applies to finished contact lenses (2%) for the foreign-origin inputs noted above that have higher duty rates. FTZ designation would further allow CooperVision to realize logistical benefits through the use of weekly customs entry procedures. Customs duties also could possibly be deferred or reduced on foreign status production equipment. The application indicates that the savings from FTZ procedures would help improve the facilities' international competitiveness.

In accordance with the Board's regulations, Pierre Duy of the FTZ Staff is designated examiner to evaluate and analyze the facts and information presented in the application and case record and to report findings and recommendations to the Board. Public comment is invited from interested parties. Submissions (original and 3 copies) shall be addressed to the Board's Executive Secretary at the address below. The closing period for receipt of comments is September 4, 2009. Rebuttal comments in response to material submitted during the foregoing period may be submitted during the subsequent 15-day period to September 21, 2009.

A copy of the application will be available for public inspection at the Office of the Executive Secretary, Foreign-Trade Zones Board, Room 2111, U.S. Department of Commerce, 1401 Constitution Avenue, NW, Washington, DC 20230-0002, and in the “Reading Room” section of the Board's website, which is accessible via www.trade.gov/ftz.

For further information, contact Pierre Duy, examiner, at pierre_duy@ita.doc.gov, or (202) 482-1378.

Dated: June 26, 2009.
Andrew McGilvray,
Executive Secretary.

[FR Doc. E9-15824 Filed 7-2-09; 8:45 am]

BILLING CODE 3510-DS-S